FEDERAL TRADE COMMISSION

[File No. 121 0014]

Kinder Morgan, Inc. and El Paso Corporation; Analysis of Proposed Agreement Containing Consent Orders To Aid Public Comment; Correction

AGENCY: Federal Trade Commission.

ACTION: Proposed Consent Agreement; correction.

SUMMARY: The Federal Trade Commission published a document in the Federal Register of May 7, 2012, requesting public comments on an analysis of proposed consent orders to aid public comment. The document contained an incorrect date.

FOR FURTHER INFORMATION CONTACT: Philip M. Eisenstat (202-326-2769), FTC, Bureau of Competition, 600 Pennsylvania Avenue NW., Washington, DC 20580.

Correction

In the Federal Register of May 7, 2012, in FR Doc. 2012-10870, on page 26760, the third column, first paragraph, correct the date to receive public comments to read “June 4, 2012.”

Donald S. Clark,
Secretary.

[FR Doc. 2012-11379 Filed 5-10-12; 8:45 am]

BILLING CODE 6750-01-P